DEPARTMENT OF AGRICULTURE

Submission for OMB Review; Comment Request

December 28, 2012.

The Department of Agriculture has submitted the following information collection requirement(s) to OMB for review and clearance under the Paperwork Reduction Act of 1995, Public Law 104-13. Comments regarding (a) whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), OIRA_Submission@OMB.EOP.GOV or fax (202) 395-5806 and to Departmental Clearance Office, USDA, OCIO, Mail Stop 7602, Washington, DC 20250-7602. Comments regarding these information collections are best assured of having their full effect if received within 30 days of this notification. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Animal and Plant Health Inspection Service

Title: Stakeholder/Customer Satisfaction Survey.

OMB Control Number: 0579-0360.

Summary of Collection: In 2003, the Plant Health Program (PHP) unit, Plant Protection and Quarantine, Animal and Plant Health Inspection Service (APHIS), obtained from the International Organization of Standardization (ISO, nongovernmental worldwide network of national standards institutes) certification in the ISO 9001;2008 standard for its permit services. To meet the ISO 9001;2008 standards, an organization must demonstrate its ability to consistently provide a product that meets customer quality requirements and applicable regulatory requirements, while aiming to enhance customer satisfaction through effective application of the system, including processes for continual improvement of its performance. In order to remain in compliance with Clause 8.2.1 (Customer Satisfaction) of the ISO 9001;2008 standard, PHP must measure the performance of its quality management system by monitoring information related to customer perception in relationship to customer requirements. PHP has determined that the best method for obtaining this information is through the use of stakeholder/customer satisfaction surveys.

Need and Use of the Information: PHP will collect information from the survey to solicit stakeholder and customer feedback with regards to their satisfaction with the regulatory services of Permit Services and Pest Permit Evaluations.

Description of Respondents: Business or other for-profit.

Number of Respondents: 500.

Frequency of Responses: Reporting: On occasion.

Total Burden Hours: 48.

Ruth Brown,
Departmental Information Collection Clearance Officer.

[FR Doc. 2012-31641 Filed 1-2-13; 8:45 am]

BILLING CODE 3410-34-P